DEPARTMENT OF HOMELAND SECURITY

U.S. Customs and Border Protection

Notice of Revocation of Customs Broker's License

AGENCY: U.S. Customs and Border Protection, Department of Homeland Security.

ACTION: Customs broker's license revocation.

SUMMARY: This document provides notice of the revocation of a customs broker's license.

FOR FURTHER INFORMATION CONTACT: Julia Peterson, Broker Management Branch, Office of International Trade, (202) 863-6601.

SUPPLEMENTARY INFORMATION: This document provides notice of the revocation of a customs broker's license pursuant to section 641 of the Tariff Act of 1930, as amended (19 U.S.C. 1641). The following customs broker's license and all associated permits are revoked by operation of law for failure to employ at least one qualifying individual pursuant to 19 U.S.C. 1641 and section 111.45(a) of title 19 of the Code of Federal Regulations (19 CFR 111.45(a)).

Company name | License No. | Port of issuance
EWC Brokerage Services LLC | 29337 | Miami.

Dated: January 21, 2016.
Brenda B. Smith,
Assistant Commissioner, Office of International Trade.

[FR Doc. 2016-01558 Filed 1-25-16; 8:45 am]

BILLING CODE 9111-14-P